DEPARTMENT OF DEFENSE

Office of the Secretary

Sunshine Act Meeting: Missile Defense Advisory Committee (MDAC)

AGENCY: Department of Defense; Missile Defense Agency (MDA).

ACTION: Cancellation of Meeting Notice.

SUMMARY: Previously, the Department of Defense announced a closed meeting of the Missile Defense Advisory Committee for October 11-12, 2007 on August 24, 2007 (72 FR 48619).

Due to the last minute unavailability of a quorum of the committee, the Department of Defense hereby announces the cancellation of the previously scheduled meeting. At this date, neither the Department of Defense nor the committee's Designated Federal Officer has plans to reschedule the meeting.

Since the scheduling changes were subsequent to the committee publishing its meeting notice in the Federal Register and fall within the 15-day notification period required by 41 CFR 102-3.150(a), the Committee Management Officer for the Department of Defense, pursuant to 41 CFR 102-3.150(b), waives the 15-calendar day notification requirement for the cancellation notice.

Pursuant to 41 CFR 102-3.105(j) and 102-3.140, the public or interested organizations may be submit written statements to the Missile Defense Advisory Committee about the committee's mission and functions. Written statements may be submitted at any time or in response to the stated agenda of planned meeting of the Missile Defense Advisory committee.

All written statements shall be submitted to the Designated Federal Officer for the Missile Defense Advisory Committee, and this individual will ensure that the written statements are provided to the membership for their consideration. Contact information for the Designated Federal Officer can be obtained from the GSA's FACA Database— https://www.fido.gov/facadatabase/pubilc.asp.

The Designated Federal Officer, pursuant to 41 CFR 102-3.150, will announce planned meetings of the Missile Defense Advisory Committee. The Designated Federal Officer, at that time, may provide additional guidance on the submission of written statements that are in response to the stated agenda for the planned meeting in question.

FOR FURTHER INFORMATION CONTACT: COL Mark Zamberlan, Designated Federal Official (DFO) at mdac@mad.mil,phone/voice mail (703) 695-6438, or mail at 7100 Defense Pentagon, Washington, DC 20301-7100.

Dated: October 5, 2007.
L.M. Bynum,
OSD Federal Register Liaison, Office, Department of Defense.

[FR Doc. 07-5039 Filed 10-9-07; 10:17 am]

BILLING CODE 5001-06-M